DEPARTMENT OF JUSTICE

Notice of Lodging of Consent Decree Pursuant to the Comprehensive Environmental Response, Compensation, and Liability Act

In accordance with Departmental policy, 28 CFR 50.7, notice is hereby given that a proposed consent decree in United States v. Jay James Jackson et al., Civil Action No. 8:0404cv64, was lodged on April 27, 2006 with the United States District Court for the District of Nebraska. This consent decree requires the defendants to reimburse EPA $700,000 for past response costs and to implement institutional controls.

The Department of Justice will receive, for a period of thirty (30) days from the date of this publication, comments relating to the proposed consent decree. Comments should be addressed to the Assistant Attorney General, Environmental and Natural Resources Division, P.O. Box 7611, U.S. Department of States v. Jay James Jackson et al., DOJ Ref. 90-11-2-07430.

The proposed consent decree may be examined at the office of the United States Attorney, 1620 Dodge Street, Suite 1400, Omaha, NE 68102-1506 and at U.S. EPA Region 7, 901 N. 5th Street, Kansas City, KS 66101. During the comment period, the consent decree may be examined on the following Department of Justice Web site, http://www.usdoj.gov/enrd/open.html. Copies of the consent decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $6.25 (without attachments) or $8.75 (with attachments) for United States v. Jay James Jackson, et al, (25 cents per page reproduction cost) payable to the U.S. Treasury.

Robert E. Maher, Jr.,
Assistant Section Chief, Environmental Enforcement Section.

[FR Doc. 06-4375 Filed 5-10-06; 8:45am]

BILLING CODE 4410-15-M